DEPARTMENT OF THE INTERIOR

National Park Service

[NPS-WASO-NRNHL-DTS#-35023; PPWOCRADI0, PCU00RP14.R50000]

National Register of Historic Places; Notification of Pending Nominations and Related Actions

AGENCY: National Park Service, Interior.

ACTION: Notice.

SUMMARY: The National Park Service is soliciting electronic comments on the significance of properties nominated before December 10, 2022, for listing or related actions in the National Register of Historic Places.

DATES: Comments should be submitted electronically by January 6, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 10, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

GEORGIA

Fulton County

Washington Carver Homes, 1100 Washington Cir., East Point, SG100008543

MINNESOTA

Clay County

District No. 3 School, 10389 280th St. South, Parke Township, SG100008545

Pipestone County

Poorbaugh, John M., Block, 102 East Wall St., Jasper, SG100008546

Scott County

Schroeder, Herman, House and Livery, 717 Bluff Ave. East (current address 717-719 Bluff Ave. East), Shakopee, SG100008547

NEW YORK

Ontario County

Central Naples Historic District, Portions of Academy, Cross, Dumond, Elizabeth, Lyon, Mechanic, Mill, Monier, Ontario, North Main, Reed, South Main, Thrall, and Wall Sts., East and West Aves., Naples, SG100008554

OHIO

Hamilton County

St. Mark's Church and Rectory, 3500 Montgomery Rd., Cincinnati, SG100008544

PENNSYLVANIA

Philadelphia County

Penn Asylum for Indigent Widows and Single Women, 1401 East Susquehanna Ave., Philadelphia, SG100008541

TEXAS

Bexar County

Heermann Store, (Farms and Ranches of Bexar County, Texas), 4738 West Loop 1604, Von Ormy vicinity, MP100008551

Dallas County

Garland Bank & Trust Company, 111 South Garland Ave., Garland, SG100008552

Smith County

Campbell Building-Union Bus Station, 311 North Bois d' Arc Ave., Tyler, SG100008548

WISCONSIN

Brown County

Mason Manor, 1424 Admiral Ct., Green Bay, SG100008555

A request for removal has been made for the following resources:

PENNSYLVANIA

Chester County

Rudolph and Arthur Covered Bridge, (Covered Bridges of Chester County TR), North of Lewisville on T 307, New London/Elk Townships, West Grove vicinity, OT80003473

Lebanon County

Immel, John, House, East of Myerstown on Flanagan Rd., Myerstown vicinity, OT80003548

A request to move has been received for the following resource:

IOWA

Polk County

Southeast Water Trough, 1000 Scott Ave., Des Moines, MV76000801

Nomination Submitted by Federal Preservation Officer

The State Historic Preservation Officer reviewed the following nomination and responded to the Federal Preservation Officer within 45 days of receipt of the nomination and supports listing the property in the National Register of Historic Places.

MONTANA

Powell County

Monture Guard Station, Lolo NF, Seeley Lake Ranger Dist., Ovando vicinity, SG100008550

Authority: Section 60.13 of 36 CFR part 60.

Dated: December 14, 2022.
Sherry A. Frear,
Chief, National Register of Historic Places/National Historic Landmarks Program.

[FR Doc. 2022-27896 Filed 12-21-22; 8:45 am]

BILLING CODE 4312-52-P